DEPARTMENT OF DEFENSE

Office of the Secretary

[Transmittal No. 24-0M]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-0M.

Dated: January 13, 2026.
Stephanie J. Bost,
Alternate OSD Federal Register Liaison Officer, Department of Defense.

BILLING CODE 6001-FR-P

BILLING CODE 6001-FR-C

Transmittal No. 24-0M

REPORT OF ENHANCEMENT OR UPGRADE OF SENSITIVITY OF TECHNOLOGY OR CAPABILITY (SEC. 36(B)(5)(C), AECA)

(i) Purchaser: Republic of Türkiye

(ii) Sec. 36(b)(1), AECA Transmittal No.: 13-56

Date: May 12, 2014

Implementing Agency: Navy

Funding Source: National Funds

(iii) Description: On May 12, 2014, Congress was notified by congressional certification transmittal number 13-56, of the possible sale under Section 36(b)(1) of the Arms Export Control Act of up to 48 MK 48 Mod 6 Advanced Technology All-Up-Round (AUR) Warshot Torpedoes, containers, fleet exercise sections, exercise fuel tanks, surface recovery cage and tools, exercise hardware, maintenance facility upgrades, support and test equipment, spare and repair parts, personnel training and training equipment, publications and technical documentation, United States (U.S). Government and contractor engineering, technical, and logistics support services, and other related elements of technical support. The total estimated value was $170 million. Major Defense Equipment (MDE) constituted $126 million of this total.

This transmittal notifies an increase in MDE value by $100 million, due to recent cost increases. There are no additional MDE or non-MDE items being reported with this notification. The total case value will increase by $100 million to $270 million. MDE will constitute $226 million of this total.

(iv) Significance: Recent cost increases have brought about the need to add value to the original notification. The proposed sale will improve Türkiye's naval power and its capability to meet current and future threats.

(v) Justification: This proposed sale will support the foreign policy goals and national security of the U.S. by improving the naval capabilities and interoperability of a NATO Ally that is a force for political and economic stability in Europe.

(vi) Sensitivity of Technology: The Sensitivity of Technology Statement contained in the original notification applies to items reported here.

(vii) Date Report Delivered to Congress: February 21, 2025

[FR Doc. 2026-00769 Filed 1-15-26; 8:45 am]

BILLING CODE 6001-FR-P